DEPARTMENT OF LABOR

Employment and Training Administration

Nominations for the Task Force on Apprenticeship Expansion; Correction

AGENCY: Employment and Training Administration, Labor.

ACTION: Solicitation of Nominations to Serve on the Task Force on Apprenticeship Expansion.

SUMMARY: The Department of Labor published a document in the Federal Register of July 25, 2017 (82 FR 34553), concerning requests for nominations for the task force on apprenticeship expansion. The document contained an incorrect email address in the FOR FURTHER INFORMATION CONTACT section.

FOR FURTHER INFORMATION CONTACT: Please contact Ms. Natalie S. Linton, Program Analyst, Employment and Training Administration, Office of Apprenticeship, at Linton.Natalie.S@dol.gov, telephone (202) 693-3592 (this is not a toll-free number).

Correction

In the Federal Register of July 25, 2017, in FR Doc. 2017-15682, in the FOR FURTHER INFORMATION CONTACT section located in the third column of page 34553, correct the email address to read: Linton.Natalie.S@dol.gov.

Byron Zuidema,
Deputy Assistant Secretary for the Employment and Training Administration.

[FR Doc. 2017-16062 Filed 7-28-17; 8:45 am]

BILLING CODE 4510-FR-P